FEDERAL MARITIME COMMISSION

Sunshine Act Meeting

TIME AND DATE: September 4, 2018; 1:00 p.m.

PLACE: 800 N Capitol Street NW, Washington, DC.

STATUS: This meeting is closed to the public.

MATTERS TO BE CONSIDERED:

Closed Session

1. Fact Finding No. 28: Conditions and Practices Relating to Detention, Demurrage, and Free Time in International Oceanborne Commerce

CONTACT PERSON FOR MORE INFORMATION: Rachel Dickon, Secretary, (202) 523-5725.

JoAnne D. O' Bryant,
Program Analyst.

[FR Doc. 2018-19021 Filed 8-28-18; 4:15 pm]

BILLING CODE 6731-AA-P